DEPARTMENT OF COMMERCE

Foreign-Trade Zones Board

[B-16-2019]

Foreign-Trade Zone (FTZ) 151—Findlay, Ohio Authorization of Production Activity Whirlpool Corporation (Dishwashers) Findlay, Ohio

On March 18, 2019, Whirlpool Corporation submitted a notification of proposed production activity to the FTZ Board for its facility within FTZ 151, in Findlay, Ohio.

The notification was processed in accordance with the regulations of the FTZ Board (15 CFR part 400), including notice in the Federal Register inviting public comment (84 FR 11282-11283, March 26, 2019). On July 16, 2019, the applicant was notified of the FTZ Board's decision that no further review of the activity is warranted at this time. The production activity described in the notification was authorized, subject to the FTZ Act and the FTZ Board's regulations, including Section 400.14.

Dated: July 16, 2019.
Andrew McGilvray,
Executive Secretary.

[FR Doc. 2019-15509 Filed 7-19-19; 8:45 am]

BILLING CODE 3510-DS-P